DEPARTMENT OF HOMELAND SECURITY

Office of the Secretary

Privacy Act of 1974; Retirement of Department of Homeland Security Transportation Security Administration System of Records

AGENCY: Privacy Office, Department of Homeland Security.

ACTION: Notice of retirement of one Privacy Act system of records notice.

SUMMARY: In accordance with the Privacy Act of 1974, the Department of Homeland Security is giving notice that it will retire the following Privacy Act system of records notice, Department of Homeland Security/Transportation Security Administration-012 Transportation Worker Identification Credentialing System (September 24, 2004, 69 FR 57348), which was written to cover the Prototype Phase of the Transportation Worker Identification Credentialing Program to authorize unescorted entry to secure transportation areas. These records were destroyed in accordance with the applicable records retention schedule, with the following exceptions: (1) Records for individuals who were an actual match to a government watchlist; and (2) records for individuals who were a close match but subsequently cleared as not posing a potential or actual threat to transportation. This notice reflects that these two categories of records from the Transportation Worker Identification Credentialing Prototype Phase must continue to be retained in accordance with the applicable records retention schedule, and will be maintained under the authority of the Department of Homeland Security/Transportation Security Administration-002 Transportation Security Threat Assessment System System of Records (May 19, 2010, 75 FR 28046), which covers the Security Threat Assessment process associated with the Transportation Worker Identification Credentialing and other Transportation Security Administration vetting programs.

DATES: These changes will take effect upon publication in the Federal Register.

FOR FURTHER INFORMATION CONTACT: For general questions please contact: Peter Pietra, Privacy Officer, TSA-36, Transportation Security Administration, 601 South 12th Street, Arlington, VA 20598-6036; email: TSAPrivacy@dhs.gov. For privacy issues please contact: Jonathan Cantor, (202-343-1717), Acting Chief Privacy Officer, Privacy Office, Department of Homeland Security, Washington, DC 20528.

SUPPLEMENTARY INFORMATION: Pursuant to the provisions of the Privacy Act of 1974, 5 U.S.C. 552a, and as part of its ongoing integration and management efforts, the Department of Homeland Security (DHS) is retiring the system of records notice, DHS/Transportation Security Administration (TSA)-012 Transportation Worker Identification Credentialing (TWIC) System (September 24, 2004, 69 FR 57348), which was written to cover the Prototype Phase of the TWIC Program to authorize unescorted entry to secure transportation areas. The retirement of this system of records is appropriate because the Prototype Phase is complete, and records from this system have been destroyed in accordance with the TSA Threat Assessment and Credentialing records retention schedule, with the following exceptions: (1) A small number of records for individuals who were an actual match to a government watchlist (which will be retained for 99 years); and (2) records for individuals who were a close match but subsequently cleared as not posing a potential or actual threat to transportation (which will be retained for 7 years). Records from the TWIC Prototype Phase not yet authorized for destruction will be retained under the authority of the DHS/TSA-002 Transportation Security Threat Assessment System (T-STAS) System of Records (May 19, 2010, 75 FR 28046), which covers the Security Threat Assessment (STA) process associated with the TWIC and other TSA vetting programs.

Eliminating the system of records notice DHS/TSA-012 TWIC will have no adverse impact on individuals, but will promote the overall streamlining and management of DHS Privacy Act record systems. Records for individuals who participated in the Prototype Phase have been destroyed, except as identified above. Individuals whose records continue to be retained pending disposition under the records retention schedule may seek access or correction to their records under DHS/TSA-002 T-STAS.

Dated: November 6, 2012.
Jonathan R. Cantor,
Acting Chief Privacy Officer, Department of Homeland Security.

[FR Doc. 2012-28678 Filed 11-26-12; 8:45 am]

BILLING CODE 9110-05-P